Title 3—

The President

Presidential Determination No. 03-05 of December 7, 2002

Presidential Determination of Designations Under the Iraq Liberation Act of 1998

Memorandum for the Secretary of State

Pursuant to the authority vested in me as President of the United States, including under section 5 of the Iraq Liberation Act of 1998 (Public Law 105-338) (“the Act”), I hereby determine that each of the following groups is a democratic oppostion organization and that each satisfies the criteria set forth in section 5(c) of the Act: the Assyrian Democratic Movement; the Iraqi Free Officers and Civilians Movement; the Iraqi National Front; the Iraqi National Movement; the Iraqi Turkmen Front; and the Islamic Accord of Iraq. I hereby designate each of these organizations as eligible to receive assistance under section 4 of the Act.

You are authorized and directed to report this determination and designation to the Congress and to arrange for its publication in the Federal Register.

B

THE WHITE HOUSE,

Washington, December 7, 2002.

[FR Doc. 02-32420

Filed 12-20-02; 8:45 am]

Billing code 4710-10-P